INTERNATIONAL TRADE COMMISSION

[Investigation Nos. 731-TA-636-638 (Second Review)

Stainless Steel Wire Rod From Brazil, France, and India

Determination

On the basis of the record ¹ developed in these subject five-year reviews, the United States International Trade Commission (Commission) determines, pursuant to section 751(c) of the Tariff Act of 1930 (19 U.S.C. 1675(c)) (the Act), that revocation of the antidumping duty orders on stainless steel wire rod from Brazil and France would not be likely to lead to continuation or recurrence of material injury to an industry in the United States within a reasonably foreseeable time.² The Commission further determines that revocation of the antidumping duty order on stainless steel wire rod from India would be likely to lead to continuation or recurrence of material injury to an industry in the United States within a reasonably foreseeable time.

¹ The record is defined in sec. 207.2(f) of the Commission's Rules of Practice and Procedure (19 CFR 207.2(f)).

² Commissioners Stephen Koplan and Charlotte R. Lane dissenting with respect to Brazil; Commissioner Lane dissenting with respect to France.

Background

The Commission instituted these reviews on July 1, 2005 (70 FR 38207) and determined on October 4, 2005 that it would conduct full reviews (70 FR 60109, October 14, 2005). Notice of the scheduling of the Commission's reviews and of a public hearing to be held in connection therewith was given by posting copies of the notice in the Office of the Secretary, U.S. International Trade Commission, Washington, DC, and by publishing the notice in the Federal Register on January 23, 2006 (71 FR 3541). The hearing was held in Washington, DC, on May 18, 2006, and all persons who requested the opportunity were permitted to appear in person or by counsel.

The Commission transmitted its determinations in these reviews to the Secretary of Commerce on July 19, 2006. The views of the Commission are contained in USITC Publication 3866 (July 2006), entitled Stainless Steel Wire Rod from Brazil, France, and India: Investigation Nos. 731-TA-636-638 (Second Review).

Issued: July 20, 2006.
By order of the Commission.
Marilyn R. Abbott
Secretary to the Commission.

[FR Doc. E6-11836 Filed 7-24-06; 8:45 am]

BILLING CODE 7020-02-P